DEPARTMENT OF TRANSPORTATION

Maritime Administration

[Docket No. MARAD-2003-14836]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before June 3, 2003.

FOR FURTHER INFORMATION CONTACT: James Zok, Maritime Administration (MAR-500), 400 Seventh St., SW., Washington, DC 20590. Telephone: 202-366-0364, FAX: 202-366-9580, or e-mail: jim.zok@marad.dot.gov.

Copies of this collection can also be obtained from that office.

SUPPLEMENTARY INFORMATION:

Title of Collection: Customer Service Survey.

Type of Request: Extension of currently approved information collection.

OMB Control Number: 2133-0528.

Form Numbers: MA-1016, MA-1017, and MA-1021.

Expiration Date of Approval: Three years from date of approval.

Summary of Collection of Information. Executive Order 12862 requires agencies to survey customers to determine the kind and quality of services they want and the level of satisfaction with existing services. This collection provides the instruments used to collect the information regarding MARAD programs and services.

Need and Use of the Information: Responses to the Customer Service Questionnaire (Form MA-1016) are needed to obtain prompt customer feedback on the quality of specific services/products provided to the customer by MARAD. Responses to the Program Performance Survey (Form MA-1017) are needed to obtain customers' views on MARAD's major programs and activities with which the customers were involved during the preceding year. Responses to the Conference/Exhibit Survey (Form MA-1021) will be used to obtain prompt responses from attendees at MARAD-sponsored conferences, exhibits and other maritime industry events.

Description of Respondents: Individuals receiving goods and services from MARAD.

Annual Responses: 6,650 responses.

Annual Burden: 256 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

By Order of the Maritime Administrator,
Dated: April 1, 2003.
Joel C. Richard,
Secretary, Maritime Administration.

[FR Doc. 03-8250 Filed 4-3-03; 8:45 am]

BILLING CODE 4910-81-P